ENVIRONMENTAL PROTECTION AGENCY

[OPPT-2002-0009; FRL-7313-5]

TSCA Chemical Testing; Receipt of Test Data

AGENCY: Environmental Protection Agency (EPA).

ACTION: Notice.

SUMMARY: This notice announces EPA's receipt of test data on dibasic esters (DBEs) (CAS Nos. 106-65-0, 627-93-0, and 1119-40-0). These data were submitted pursuant to an enforceable testing consent agreement (ECA)/Order issued by EPA under section 4 of the Toxic Substances Control Act (TSCA).

FOR FURTHER INFORMATION CONTACT: Barbara Cunningham, Director, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. This action may, however, be of interest to those persons who are concerned about data on health and/or environmental effects and other characteristics of this chemical. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPPT-2002-0009. The official public docket consists of the documents specifically referenced in this action, any public comments received, and other information related to this action. Although a part of the official docket, the public docket does not include Confidential Business Information (CBI) or other information whose disclosure is restricted by statute. The official public docket is the collection of materials that is available for public viewing at EPA's Docket Center, Rm. B102-Reading Room, EPA West, 1301 Constitution Ave., NW., Washington, DC. EPA's Docket Center is open from 8:30 a.m. to 4:30 p.m., Monday through Friday, excluding legal holidays. EPA's Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Test Data Submissions

Under 40 CFR 790.60, all TSCA section 4 ECAs/Orders must contain a statement that results of testing conducted pursuant to ECAs/Orders will be announced to the public in accordance with section 4(d) of TSCA.

Test data for DBEs were submitted by the DBE Group comprised of the following companies: Aceto Corporation, DuPont Textiles and Interiors (formally E.I. du Pont de Nemours and Company), and Solutia, Inc. These data were submitted pursuant to a TSCA section 4 ECA/Order and were received by EPA on April 1, 2003 and April 22, 2003. The submission includes a final report titled “Dibasic Esters: In vitro Dermal Permeability Coefficients (Kp) in Rat and Human Skin (for each DBE and for a 1:3:1 blend of dimethyl succinate (DMS, CAS #106-65-0); dimethyl glutarate (DMG, CAS #1119-40-0); and dimethyl adipate (DMA, CAS #627-93-0).” A second final report was received by EPA titled “Dimethyl Glutarate (DMG, CAS #1119-40-0) Inhalation Developmental Toxicity Study in Rabbits.” DBEs are component chemicals of solvent mixtures used in paint stripping formulations that are sold to the general public. Consumers can be significantly exposed to DBEs during use of these formulations.

EPA has initiated its review and evaluation process for this submission. At this time, the Agency is unable to provide any determination as to the completeness of the submission.

Authority: 15 U.S.C. 2603.

List of Subjects

Environmental protection, Hazardous substances, Toxic substances.

Dated: June 23, 2003.
Philip S. Oshida,
Acting Director, Chemical Control Division, Office of Pollution Prevention and Toxics.

[FR Doc. 03-19500 Filed 7-30-03; 8:45 am]

BILLING CODE 6560-50-S